COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add products to the Procurement List that will be furnished by nonprofit agencies employing persons who are blind or have other severe disabilities, and deletes products previously furnished by such agencies.

DATES: Comments must be received on or before: June 24, 2018.

ADDRESSES: Committee for Purchase From People Who Are Blind or Severely Disabled, 1401 S. Clark Street, Suite 715, Arlington, Virginia, 22202-4149.

FOR FURTHER INFORMATION CONTACT: For further information or to submit comments contact: Amy B. Jensen, Telephone: (703) 603-7740, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the products listed below from nonprofit agencies employing persons who are blind or have other severe disabilities.

The following products are proposed for addition to the Procurement List for production by the nonprofit agencies listed:

Products

NSN(s)—Product Name(s):

2940-01-197-7106—Filter Element, Fluid, 4.875” Diameter

2940-01-367-7515—Filter Element, Fluid, 5.10” D

2940-01-558-7221—Filter Element, Fluid, 3.69” D

2910-01-110-8184—Filter Cartridge, Fluid

Mandatory for: 100% of the requirement of the Department of Defense.

Mandatory Source of Supply: West Texas Lighthouse for the Blind, San Angelo, TX.

Contracting Activity: Defense Logistics Agency Land and Maritime.

Distribution: C-List.

NSN(s)—Product Name(s):

8115-01-582-9708—Box, Shipping, Multi-Use, Grey, 48” x 32” x 34”

8115-01-582-9710—Box, Shipping, Multi-Use, Grey, 48” x 32” x 50”

8115-01-582-9711—Box, Shipping, Multi-Use, Grey, 48” x 40” x 36”

8115-01-598-2716—Shipping Sleeve, with Drop Panel, Grey, 40” x 48” x 45”

8115-01-598-2717—Shipping Sleeve, with Drop Panel, Grey, 40” x 48” x 30”

Mandatory for: Total Government Requirement.

Mandatory Source of Supply: South Texas Lighthouse for the Blind, Corpus Christi, TX.

Contracting Activity: General Services Administration, New York, NY.

Distribution: A-List.

NSN(s)—Product Name(s):

7350-01-332-2111—Bowl, Paper, Round, 12 oz., Natural

Mandatory for: Total Government Requirement.

Mandatory Source of Supply: The Lighthouse for the Blind in New Orleans, Inc., New Orleans, LA.

Contracting Activity: General Services Administration, Fort Worth, TX.

Distribution: A-List.

NSN(s)—Product Name(s):

7025-00-NIB-0013—PC Keyboard, USB, Black

Mandatory for: Total Government Requirement.

Mandatory Source of Supply: LC Industries, Inc., Durham, NC.

Contracting Activity: General Services Administration, New York, NY.

Distribution: A-List.

NSN(s)—Product Name(s):

4010-01-250-5428—Assembly, Chain, Single Leg, HEMTT, 12' L

4010-01-224-9207—Assembly, Chain, Single Leg

Mandatory for: 100% of the requirement of the Department of Defense.

Mandatory Source of Supply: NewView Oklahoma, Inc., Oklahoma, City, OK.

Contracting Activity: Defense Logistics Agency Land and Maritime.

Distribution: C-List.

NSN(s)—Product Name(s):

7110-00-NIB-2413—Desk, Standing, Adjustable, Black, 36”

Mandatory for: Total Government Requirement.

Mandatory Source of Supply: Wiscraft, Inc., Milwaukee, WI.

Contracting Activity: General Services Administration, Philadelphia, PA.

Distribution: A-List.

NSN(s)—Product Name(s):

8540-00-291-0389—Towel, Multifold, 3 Panel, Natural

8540-00-NIB-0101—Towel, Multifold, 3 Panel, White

Mandatory for: Total Government Requirement.

Mandatory Source of Supply: Outlook-Nebraska, Inc., Omaha, NE.

Contracting Activity: General Services Administration, New York, NY.

Distribution: A-List.

Deletions

The following products are proposed for deletion from the Procurement List:

Products

NSN(s)—Product Name(s):

MR 863—Lint Remover, Roller Type

Mandatory Source of Supply: Alphapointe, Kansas City, MO.

Contracting Activity: Defense Commissary Agency.

NSN(s)—Product Name(s):

7530-01-600-2030—Notebook, Stenographer's, Biobased Bagasse Paper, 6x9″, 80 sheets, Gregg Rule, White

Mandatory Source of Supply: The Arkansas Lighthouse for the Blind, Little Rock, AR.

Contracting Activity: General Services Administration, New York, NY.

NSN(s)—Product Name(s):

6532-00-197-8201—Hood, Operating, Surgical, White.

Mandatory Source of Supply: Unknown.

Contracting Activity: Department of Veterans Affairs, Strategic Acquisition Center.

NSN(s)—Product Name(s):

7510-01-545-3765—DAYMAX System, 2017, Calendar Pad, Type I

7510-01-545-3730—DAYMAX System, 2017, Calendar Pad, Type II

Mandatory Source of Supply: Anthony Wayne Rehabilitation Ctr for Handicapped and Blind, Inc., Fort Wayne, IN.

Contracting Activity: General Services Administration, New York, NY

Amy Jensen,
Director, Business Operations.

[FR Doc. 2018-11331 Filed 5-24-18; 8:45 am]

BILLING CODE 6353-01-P